DEPARTMENT OF ENERGY

Federal Energy Regulatory Commission

[Docket No. CP26-2-000]

Enable Mississippi River Transmission, LLC; Notice of Schedule for the Preparation of an Environmental Assessment for the Ameren-EMRT Big Hollow Project

On October 6, 2025, Enable Mississippi River Transmission, LLC (EMRT) filed an application in Docket No. CP26-2-000 requesting a Certificate of Public Convenience and Necessity pursuant to Section 7(c) of the Natural Gas Act to construct and operate certain natural gas pipeline facilities in Monroe County, Illinois and Jefferson County, Missouri. The proposed project is known as the Ameren-EMRT Big Hollow Project (Project) and would provide about 200,000 million standard cubic feet per day of transportation capacity to the Union Electric Company's d/b/a Ameren Missouri's (Ameren) new gas-fired electric generating plant at the Big Hollow Energy Center on the site of their retired Rush Island coal-fired Energy Center.

On October 15, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EAXX-019-20-000-1763644926.

Schedule for Environmental Review

Issuance of EA—April 10, 2026

90-day Federal Authorization Decision Deadline ²—July 9, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

The Project includes construction and operation of a lateral pipeline, measurement and regulation station, and appurtenant facilities to facilitate Union Electric Company's d/b/a Ameren Missouri's (Ameren) new gas-fired electric generating plant at the Big Hollow Energy Center on the site of their retired Rush Island coal-fired Energy Center.

The Ameren-EMRT Big Hollow Project would consist of the following facilities:

• an approximate 9.6-mile-long, 20-inch-diameter lateral pipeline, from a point of interconnection on EMRT's existing 22-inch-diameter Mainline 2 and 26-inch-diameter Mainline 3 pipelines, at Mile Post 415.5 in Monroe County, Illinois to the existing Big Hollow Energy Center site in Jefferson County, Missouri;

• a measurement and regulation station located downstream of the tie-in with Ameren's proposed Big Hollow Energy Center; and

• appurtenant pipeline facilities, including a 20-inch pig launcher, 20-inch pig receiver, and 20-inch hot taps on existing Mainline 2 and 3 at the lateral interconnect locations.

Background

On October 21, 2025, the Commission issued a Notice of Scoping Period Requesting Comments on Environmental Issues for the Proposed Ameren-EMRT Big Hollow Project (Notice of Scoping). The Notice of Scoping was sent to affected landowners; federal, state, and local government agencies; elected officials; environmental and public interest groups; Native American tribes; other interested parties; and local libraries. In response to the Notice of Scoping, the Commission received comments from the Illinois Department of Natural Resources and two landowners. The primary issues raised by the commenters are air emissions and noise, and potential impacts to Illinois Nature Preserve Commission-protected lands within the Project vicinity. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

For public inquiries and assistance with making filings such as interventions, comments, or requests for rehearing, contact the Office of Public Participation at (202) 502-6595 or OPP@ferc.gov.

Additional information about the Project is available from the FERC website (www.ferc.gov). Using the “eLibrary” link, select “General Search” from the eLibrary menu, enter the selected date range and “Docket Number” excluding the last three digits (i.e., CP26-2-000), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

(Authority: 18 CFR 2.1)

Dated: January 12, 2026.
Debbie-Anne A. Reese,
Secretary.

[FR Doc. 2026-00715 Filed 1-14-26; 8:45 am]

BILLING CODE 6717-01-P